INTERNATIONAL TRADE COMMISSION

[Investigation No. 332-572]

Generalized System of Preferences: Possible Modifications, 2018 Review

AGENCY: United States International Trade Commission.

ACTION: Notice of amendment of scope of investigation.

SUMMARY: Following receipt on August 8, 2019, of a correction to the United States Trade Representative's (USTR) request letter of June 4, 2019, the U.S. International Trade Commission (Commission) has amended the scope of its investigation No. 332-572, Generalized System of Preferences: Possible Modifications, 2018 Review, and has removed assembled flooring panels of bamboo, other than for mosaic, multilayer, having a face ply more than 6 mm in thickness from Indonesia, provided for in subheading 4418.73.40 of the Harmonized Tariff Schedule, from the list of articles being considered for redesignation in table C of the Annex to USTR's request letter. As a result, the Commission will not provide advice regarding this article.

DATES: September 9, 2019: Transmittal of Commission report to the USTR.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov.

FOR FURTHER INFORMATION CONTACT: Information specific to this investigation may be obtained from Mark Brininstool, Project Leader, Office of Industries (202-708-1395 or mark.brininstool@usitc.gov), Sharon Ford, Deputy Project Leader, Office of Industries (202-205-3084 or sharon.ford@usitc.gov), or Marin Weaver, Technical Advisor, Office of Industries (202-205-3461 or marin.weaver@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2000.

Background: All dates and other information relating to this investigation remain the same as in the Commission's notice of investigation and public hearing issued on June 7, 2019 and published in the Federal Register of June 11, 2019 (84 FR 27159).

By order of the Commission.
Issued: August 19, 2019.
Lisa Barton,
Secretary to the Commission.

[FR Doc. 2019-18160 Filed 8-22-19; 8:45 am]

BILLING CODE 7020-02-P